DEPARTMENT OF THE INTERIOR

Geological Survey

[GX18GC009PLFM00]

Public Meeting of the National Cooperative Geologic Mapping Program (NCGMP) and National Geological and Geophysical Data Preservation Program (NGGDPP) Advisory Committee

AGENCY: U.S. Geological Survey, Interior.

ACTION: Notice of public meeting.

SUMMARY: In accordance with the Federal Advisory Committee Act of 1972, the U.S. Geological Survey (USGS) is publishing this notice to announce that a Federal Advisory Committee meeting of the NCGMP and NGGDPP will take place.

DATES: The meeting will be held on Tuesday and Wednesday, May 1st and 2nd, 2018, from approximately 9:00 a.m. EST to 4:00 p.m. EST.

ADDRESSES: The meeting will be held at the USGS National Center, 12201 Sunrise Valley Drive, Reston, VA 20192.

FOR FURTHER INFORMATION CONTACT: Michael J. Marketti, U.S. Geological Survey, 12201 Sunrise Valley Drive, Mail Stop 908, Reston, VA 20192, by email at mmarketti@usgs.gov, or by telephone at 703-648-6976.

SUPPLEMENTARY INFORMATION: This meeting is being held under the provisions of the Federal Advisory Committee Act of 1972 (5 U.S.C., Appendix, as amended), the Government in the Sunshine Act of 1976 (5 U.S.C. 552B, as amended), and 41 CFR 102-3.140 and 102-3.150.

Purpose of the Meeting: The NCGMP and NGGDPP Federal Advisory Committee will meet to hear updates on progress of the NCGMP towards fulfilling the purposes of the National Geologic Mapping Act of 1992, as well as updates on the NGGDPP towards fulfilling the purposes of the Energy Policy Act of 2005. The Committee, comprised of representatives from Federal agencies, State agencies, academic institutions, and private companies, shall advise the Director of the U.S. Geological Survey on planning and implementation of the geologic mapping and data preservation programs.

Agenda: Introductions/Update on NGGDPP/Future Planning for NGGDPP and discussion/Update on NCGMP/Future Planning for NCGMP and discussion/other topics to be determined.

Meeting Accessibility/Special Accommodations: The meeting is open to the public on both days from approximately 9:00 a.m. to 4:00 p.m. and seating is on a first-come basis. Members of the public wishing to attend the meeting or wanting to receive call-in information or a link to the live stream webcast should contact Michael J. Marketti by email at mmarketti@usgs.gov to register no later than five (5) business days prior to the meeting. Individuals requiring special accommodations to access the public meeting should contact Michael J. Marketti at the email stated above or by telephone at 703-648-6976 at least five (5) business days prior to the meeting so that appropriate arrangements can be made.

Public Disclosure of Comments: Time will be allowed at the meeting for any individual or organization wishing to make formal oral comments. To allow for full consideration of information by the committee members, written notice must be provided to Michael J. Marketti, U.S. Geological Survey, 12201 Sunrise Valley Drive, Mail Stop 908, Reston, VA 20192; by email at mmarketti@usgs.gov; or by telephone at 703-648-6976, at least five (5) business days prior to the meeting. Any written comments received will be provided to the committee members.

Before including your address, phone number, email address, or other personal identifying information in your comment, you should be aware that your entire comment—including your personal identifying information—may be made publicly available at any time. While you can ask us in your comment to withhold your personal identifying information from public review, we cannot guarantee that we will be able to do so.

Michael Marketti,
NCGMP Program Analyst, NCGMP/NGGDPP Federal Advisory Committee Administrative Officer.

[FR Doc. 2018-08458 Filed 4-23-18; 8:45 am]

BILLING CODE 4311-AM-P